DEPARTMENT OF ENERGY

Federal Energy Regulatory Commission

Combined Notice of Filings

Take notice that the Commission has received the following Natural Gas Pipeline Rate and Refund Report filings:

Filings Instituting Proceedings

Docket Numbers: RP12-254-000.

Applicants: Gas Transmission Northwest LLC.

Description: Pacific Gas and Electric Agreement to be effective 1/1/2012.

Filed Date: 12/20/11.

Accession Number: 20111220-5139.

Comments Due: 5 p.m. ET 1/3/12.

Docket Numbers: RP12-255-000.

Applicants: Crossroads Pipeline Company.

Description: Crossroads Pipeline Company Penalty Revenue Crediting Report.

Filed Date: 12/21/11.

Accession Number: 20111221-5079.

Comments Due: 5 p.m. ET 1/3/12.

Docket Numbers: RP12-256-000.

Applicants: Central Kentucky Pipeline Company.

Description: Central Kentucky Pipeline Company Penalty Revenue Crediting Report.

Filed Date: 12/21/11.

Accession Number: 20111221-5086.

Comments Due: 5 p.m. ET 1/3/12.

Docket Numbers: RP12-257-000.

Applicants: Columbia Gulf Transmission Company.

Description: Columbia Gulf Transmission Company Penalty Revenue Crediting Report.

Filed Date: 12/21/11.

Accession Number: 20111221-5089.

Comments Due: 5 p.m. ET 1/3/12.

Docket Numbers: RP12-258-000.

Applicants: Columbia Gas Transmission, LLC.

Description: Columbia Gas Transmission, LLC Penalty Revenue Crediting Report.

Filed Date: 12/21/11.

Accession Number: 20111221-5094.

Comments Due: 5 p.m. ET 1/3/12.

Docket Numbers: RP12-259-000.

Applicants: USG Pipeline Company, LLC.

Description: Housekeeping Filing to be effective 1/20/2012.

Filed Date: 12/21/11.

Accession Number: 20111221-5184.

Comments Due: 5 p.m. ET 1/3/12.

Docket Numbers: RP12-260-000.

Applicants: Millennium Pipeline Company, L.L.C.

Description: Filed Date: 12/22/11.

Accession Number: 20111222-5038.

Comments Due: 5 p.m. ET 1/3/12.

Docket Numbers: CP12-32-000.

Applicants: Equitrans, L.P.

Description: Abbreviated Application For Amended Certificate, Abandonment, and Certificate Authority To Lease Facilities.

Accession Number: 20111216-5177.

Comments Due: 5 p.m. ET 1/3/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-208-001.

Applicants: MarkWest Pioneer, L.L.C.

Description: MarkWest Pioneer—Substitute Quarterly FRP Filing to be effective 1/1/2012.

Filed Date: 12/14/11.

Accession Number: 20111214-5171.

Comments Due: 5 p.m. ET 1/3/12.

Docket Numbers: RP11-2639-002.

Applicants: Northern Border Pipeline Company.

Description: Compliance to RP11-2639-001 to be effective 11/1/2011.

Filed Date: 12/20/11.

Accession Number: 20111220-5083.

Comments Due: 5 p.m. ET 1/3/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 22, 2011.
Nathaniel J. Davis, Sr.,
Deputy Secretary.

[FR Doc. 2011-33559 Filed 12-29-11; 8:45 am]

BILLING CODE 6717-01-P